DEPARTMENT OF ENERGY

Federal Energy Regulatory Commission

[Project No. 12629-004]

Milltown Hydroelectric, LLC, Green Power USA, LLC; Notice of Transfer of Exemption

1. By letter filed October 6, 2015, Milltown Hydroelectric, LLC and Green Power USA, LLC informed the Commission that the exemption from licensing for the Corriveau Project, No. 12629, originally issued October 24, 2006,¹ has been transferred to Green Power USA, LLC. The project is located on the Swift River in Oxford County, Maine. The transfer of an exemption does not require Commission approval.

¹ 117 FERC ¶ 62,059, Order Granting Exemption from Licensing (5 MW or Less (2006).

2. Green Power USA, LLC is now the exemptee of the Corriveau Project, No. 12629. All correspondence should be forwarded to: Ms. Nancy Lausier, Green Power USA, LLC, 24 Standpipe Road, Mechanic Falls, Maine 04256.

Dated: October 22, 2015.
Kimberly D. Bose,
Secretary.

[FR Doc. 2015-27406 Filed 10-27-15; 8:45 am]

BILLING CODE 6717-01-P